DEPARTMENT OF HEALTH AND HUMAN SERVICES

Administration for Children and Families

Proposed Information Collection Activity; Comment Request

Title: Planning Grants to Develop a Model Intervention for Youth/Young Adults with Child Welfare Involvement At-Risk of Homelessness.

OMB No.: New Collection.

Description: The Administration for Children and Families (ACF), U.S. Department of Health and Human Services (HHS), intends to collect data for an evaluation of the initiative, Planning Grants to Develop a Model Intervention for Youth/Young Adults with Child Welfare Involvement At-Risk of Homelessness. This 2-year initiative, funded by the Children's Bureau (CB) within ACF, will support planning grants to develop a model for intervening with youth who have experienced time in foster care and are most likely to have a challenging transition to adulthood, including homelessness and unstable housing experiences. CB anticipates awarding up to 18 planning grants (Phase I). During the planning phase, organizations will develop formal plans to implement and evaluate the model under a potential future funding opportunity (Phase II).

For Phase I, CB will engage a contractor to: provide grantees with evaluation-related technical assistance (TA), implement evaluability assessments, and conduct a cross-site process evaluation. Data collected for the process evaluation will be used to assess grantees' organizational capacity and readiness to implement and evaluate the model interventions, and to conduct regular and periodic monitoring of each grantee's progress toward achieving the goals of the planning period.

Data for the process evaluation will be collected through: (1) Telephone interviews; (2) interviews and focus groups during site visits; and (3) web-based data collection.

Respondents: Grantee agency directors and staff; partner agency directors and staff. Partner agencies may vary by site, but are expected to include child welfare, mental health, and youth housing/homelessness agencies.

Annual Burden Estimates
Instrument | Total number of respondents | Annual number of respondents | Number of responses per respondent | Average burden hours per response | Total annual burden hours
Baseline Telephone Interview of Organizational Readiness | 540 | 270 | 1 | 1.0 | 270
Exit Telephone Interview of Organizational Readiness | 540 | 270 | 1 | 1.0 | 270
Grantee Site Visit—Semi-Structured Interview Topic Guide | 540 | 270 | 1 | 1.5 | 405
Grantee Site Visit—Focus Group Guide | 540 | 270 | 1 | 1.5 | 405
Web survey of program staff | 180 | 90 | 8 | .5 | 360

Estimated Total Annual Burden Hours: 1,710.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Steven M. Hanmer,
Reports Clearance Officer.

[FR Doc. 2013-22961 Filed 9-20-13; 8:45 am]

BILLING CODE 4184-01-P